DEPARTMENT OF THE INTERIOR

Fish and Wildlife Service

Endangered Species; Permit

AGENCY: Fish and Wildlife Service, Interior.

ACTION: Notice of Finding of No Significant Impact (FONSI) and issuance of permit for Incidental Take of Endangered Species.

SUMMARY: On June 4, 2003, a FONSI determination was made for the action as described in the final Environmental Assessment. As authorized by the provisions of the Endangered Species Act (Act), as amended, the Service issued an Incidental Take Permit to the Long Point Homeowner's Association subject to certain conditions set forth therein.

ADDRESSES: Mr. Peter Fasbender, Regional Permits Coordinator, 1 Federal Drive, Fort Snelling, Minnesota 55111-4056.

FOR FURTHER INFORMATION CONTACT: Additional information on this permit may be requested by contacting Mr. Peter Fasbender, at (612) 713-5343, or peter_fasbender@fws.gov. The final Environmental Assessment and final Habitat Conservation Plan can be viewed on the Service's Regional Web site at: http://midwest.fws.gov/NEPA.

SUPPLEMENTARY INFORMATION: On March 17, 2003, a notice was published in the Federal Register (68 FR 12711) announcing that a draft Environmental Assessment and Habitat Conservation Plan and that a permit application had been filed with the U.S. Fish and Wildlife Service by the Long Point Homeowner's Association, Kellys Island, Erie County, Ohio. The permit was to incidentally take, pursuant to section 10(a)(1)(B) of the Act, Lake Erie water snake (Nerodia sipedon insularum) within the Long Point Subdivision pursuant to the terms of the Habitat Conservation Plan.

Notice is hereby given that on June 4, 2003, the Proposed Action (Alternative 3) was selected and a FONSI determination was made for the action as described in the final Environmental Assessment. As authorized by the provisions of the Act, the Service issued a permit (TE-072436) to the above-named party subject to certain conditions set forth therein. The permit was granted only after the Service determined it was applied for in good faith, that granting the permit would not be to the disadvantage of the endangered species, and that granting the permit was consistent with the purposes and policy set forth in the Act.

Dated: July 24, 2003.
TJ Miller,
Acting Assistant Regional Director, Ecological Services, Region 3, Fort Snelling, Minnesota.

[FR Doc. 03-20828 Filed 8-14-03; 8:45 am]

BILLING CODE 4310-55-P